DEPARTMENT OF TRANSPORTATION

Federal Aviation Administration

14 CFR Part 39

[Docket No. FAA-2011-0199; Directorate Identifier 2011-CE-005-AD]

RIN 2120-AA64

Airworthiness Directives; Eclipse Aerospace, Inc. Airplanes Equipped With Pratt & Whitney Canada, Corp. PW610F-A Engines

AGENCY: Federal Aviation Administration (FAA), DOT.

ACTION: Notice of proposed rulemaking (NPRM).

SUMMARY: We propose to revise an existing airworthiness directive (AD) that applies to all Eclipse Aerospace, Inc. Model EA500 airplanes equipped with Pratt & Whitney Canada, Corp. (P&WC) Model PW610F-A engines. The existing AD currently requires incorporating an operating limitation of a maximum operating altitude of 30,000 feet into Section 2, Limitations, of the airplane flight manual (AFM). Since we issued that AD, P&WC has developed a design change for the combustion chamber liner assembly. This proposed AD would retain the requirements of the current AD, clarify the engine applicability, and allow the option of incorporating the design change to terminate the current operating limitation and restore the original certificated maximum operating altitude of 41,000 feet. We are proposing this AD to correct the unsafe condition on these products.

DATES: We must receive comments on this proposed AD by November 28, 2011.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

For service information identified in this AD, contact Pratt & Whitney Canada, 1000 Marie-Victorin Blvd., Longueuil, Quebec, J4G 1A1 Canada; telephone: (800) 268-8000; Internet: http://www.P&WC.ca. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Eric Kinney, Aerospace Engineer, FAA, Fort Worth Aircraft Certification Office, 2601 Meacham Blvd., Fort Worth, Texas 76137; telephone: (817) 222-5459; fax: (817) 222-5960; e-mail: eric.kinney@faa.gov.

SUPPLEMENTARY INFORMATION:

Comments Invited

We invite you to send any written relevant data, views, or arguments about this proposed AD. Send your comments to an address listed under the ADDRESSES section. Include “Docket No. FAA-2011-0199; Directorate Identifier 2011-CE-005-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On March 3, 2011, we issued AD 2011-06-06, amendment 39-16631 (76 FR 13078, March 10, 2011), for all Eclipse Aerospace, Inc. Model EA500 airplanes equipped with Pratt & Whitney Canada, Corp. (P&WC) Model PW610F-A engines. That AD superseded AD 2008-24-07, amendment 39-15747 (73 FR 70866, November 24, 2008) and requires incorporating an operating limitation of a maximum operating altitude of 30,000 feet into Section 2, Limitations, of the AFM. That AD resulted from several incidents of engine surge due to hard carbon build up blocking the static vanes at maximum operating altitude of 37,000 feet. We issued that AD to prevent hard carbon buildup on the static vane, which could result in engine surges. Engine surges may result in a necessary reduction in thrust and decreased power for the affected engine. In some cases, this could result in flight and landing under single-engine conditions.

Actions Since Existing AD Was Issued

Since we issued AD 2011-06-06, amendment 39-16631 (76 FR 13078, March 10, 2011), P&WC has issued a new service bulletin that incorporates a design change to the combustion chamber liner assembly. The current design of the combustion chamber liner assembly is a one-piece configuration. The new design change involves replacing the combustion chamber liner assembly with one that has inner and outer liner assemblies that are held by cast heat shields.

Upon replacing the combustion chamber liner assembly on both engines with the new design combustion chamber assemblies, the operating limits of the airplane can be restored to the original certificated maximum operating altitude of 41,000 feet.

We have been informed that all new P&WC Model PW610F-A engines manufactured for new production Eclipse Aerospace, Inc. Model EA500 airplanes will incorporate the new combustion chamber liner assembly. The serial numbers for these new engines will start after PCE-LA0583. Therefore, to make it clear that this proposed AD will not be applicable to the new production airplanes, we need to clarify the engine applicability to include an end serial number.

Relevant Service Information

We reviewed Pratt & Whitney Canada Service Bulletin P&WC S.B. No. 60077, dated June 1, 2011. The service information describes procedures for replacing the turbofan engine combustion chamber liner assembly with one that has inner and outer liner assemblies that include heat shields.

FAA's Determination

We are proposing this AD because we evaluated all the relevant information and determined the unsafe condition described previously is likely to exist or develop in other products of the same type design.

Proposed AD Requirements

This proposed AD would retain all requirements of AD 2011-06-06, amendment 39-16631 (76 FR 13078, March 10, 2011). This proposed AD would also clarify the engine applicability and allow the option of incorporating Pratt & Whitney Canada Service Bulletin P&WC S.B. No. 60077, dated June 1, 2011, to terminate the operating limitations set in AD 2011-06-06 and restore the original certificated altitude of 41,000 feet.

Costs of Compliance

We estimate that this proposed AD affects 259 airplanes of U.S. registry.

We estimate the following costs to comply with this proposed AD:

Estimated Costs (Retained From AD 2011-06-06, Amendment 39-16631 (76 FR 13078, March 10, 2011)
Action | Labor cost | Parts cost | Cost per product | Cost on U.S. operators
Incorporate operating limitations of maximum operating altitude of 30,000 feet into Section 2, Limitations, of the AFM | 1 work-hour × $85 per hour = $85 | Not Applicable | $85 | $22,015

The cost presented above is a cost estimate only. A person holding at least a private pilot certificate as authorized by section 43.7 of the Federal Aviation Regulations (14 CFR 43.7) may insert the AFM change.

Estimated Costs
[Optional action]
Action | Labor cost | Parts cost | Cost per product | Cost on U.S. operators
Incorporation of Pratt & Whitney Canada Service Bulletin P&WC S.B. No. 60077, dated June 1, 2011, on both engines | 20 work-hours × $85 per hour = $1,700 for both engines | $236,610 for both engines | $238,310 for both engines | $61,722,290 for both engines.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2011-06-06, amendment 39-16631 (76 FR 13078, March 10, 2011), and adding the following new AD:

Eclipse Aerospace, Inc. Model EA500 Airplanes Equipped With Pratt & Whitney Canada, Corp. Model PW610F-A Engines: Docket No. FAA-2011-0199; Directorate Identifier 2011-CE-006-AD.

(a) Comments Due Date

The FAA must receive comments on this AD action by November 28, 2011.

(b) Affected ADs

This AD revises AD 2011-06-06, amendment 39-16631 (76 FR 13078, March 10, 2011).

(c) Applicability

This AD applies to Model EA500 airplanes, all serial numbers, that are:

(1) equipped with Pratt & Whitney Canada, Corp. Model PW610F-A engines, all serial numbers up to and including serial number PCE-LA0583; and

(2) certificated in any category.

(d) Subject

Joint Aircraft System Component (JASC)/Air Transport Association (ATA) of America Code 72, Engine.

(e) Unsafe Condition

This AD was prompted by several incidents of engine surge. We are issuing this AD to prevent hard carbon buildup on the static vane, which could result in engine surges. Engine surges may result in a necessary reduction in thrust and decreased power for the affected engine. In some cases, this could result in flight and landing under single-engine conditions. It is also possible this could affect both engines at the same time, requiring dual-engine shutdown.

(f) Compliance

Comply with this AD within the compliance times specified, unless already done.

(g) Action Retained From AD 2011-06-06, Amendment 39-16631 (76 FR 13078, March 10, 2011)

(1) Before further flight after March 21, 2011 (the effective date retained from AD 2011-06-06), incorporate the following language into Section 2, Limitations, of your airplane flight manual (AFM): “Per AD 2011-06-06, LIMIT THE MAXIMUM OPERATING ALTITUDE TO 30,000 FEET (9144M) PRESSURE ALTITUDE.”

(2) A person holding at least a private pilot certificate as authorized by section 43.7 of the Federal Aviation Regulations (14 CFR 43.7) may insert the operating limitations into Section 2, Limitations, of the AFM. Make an entry into the aircraft logbook showing compliance with this portion of the AD in accordance with section 43.9 of the Federal Aviation Regulations (14 CFR 43.9).

(3) You may incorporate paragraph (g) of this AD into Section 2, Limitations, of your AFM to comply with this AD.

(h) Optional Action To Restore Original Certificated Maximum Operating Altitude

(1) You may, at any time after compliance with paragraph (g) of this AD, on both engines replace the turbofan engine combustion chamber liner assembly with one that has inner and outer liner assemblies that include heat shields. Do the replacements in accordance with Pratt & Whitney Canada Service Bulletin P&WC S.B. No. 60077, dated June 1, 2011. This includes the change to the weight and balance in paragraph 1.H. in the service bulletin.

(2) Before further flight after doing the replacement specified in paragraph (h)(1) of this AD, remove the limitation required in paragraph (g)(1) of this AD.

(3) Within 30 days after doing the replacement specified in paragraph (h)(1) of this AD or within 30 days after the effective date of this AD, whichever occurs later, send a memo or email to Eric Kinney at the address specified in paragraph (k)(1) of this AD notifying him of the completion of the replacement. In this notification, include the airplane serial number, engine serial numbers, and time-in-service (TIS) hours at the time of replacement.

(i) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

(j) Alternative Methods of Compliance (AMOCs)

(1) The Manager, Fort Worth ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(3) AMOCs approved for AD 2011-06-06, amendment 39-16631 (76 FR 13078, March 10, 2011) are approved as AMOCs for this AD.

(k) Related Information

(1) For more information about this AD, contact Eric Kinney, Aerospace Engineer, Fort Worth ACO, FAA, 2601 Meacham Blvd., Fort Worth, Texas 76137; telephone: (817) 222-5459; fax: (817) 222-5960; e-mail: eric.kinney@faa.gov.

(2) For service information identified in this AD, contact Pratt & Whitney Canada, 1000 Marie-Victorin Blvd., Longueuil, Quebec, J4G 1A1 Canada; telephone: (800) 268-8000; Internet: http://www.P&WC.ca. You may review copies of the referenced service information at the FAA, Small Airplane Directorate, 901 Locust, Kansas City, Missouri 64106. For information on the availability of this material at the FAA, call (816) 329-4148.

Issued in Kansas City, Missouri, on October 6, 2011.
Earl Lawrence,
Manager, Small Airplane Directorate, Aircraft Certification Service.

[FR Doc. 2011-26478 Filed 10-12-11; 8:45 am]

BILLING CODE 4910-13-P